DEPARTMENT OF TRANSPORTATION

Federal Railroad Administration

49 CFR Parts 229, 234, 235, and 236

[Docket No. FRA-2008-0132, Notice No. 2]

RIN 2130-AC03

Positive Train Control Systems

AGENCY: Federal Railroad Administration (FRA), Department of Transportation (DOT).

ACTION: Notice of public hearing.

SUMMARY: By notice of proposed rulemaking (NPRM) published on July 21, 2009 ([CITE]), FRA proposed regulations implementing a requirement of the Rail Safety Improvement Act of 2008 that certain passenger and freight railroads install positive train control systems. The proposal includes required functionalities of the technology and the means by which it would be certified. The proposal also describes the contents of the positive train control implementation plans required by the statute and contains the proposed process for submission of those plans for review and approval by FRA. These proposed regulations could also be voluntarily complied with by entities not mandated to install positive train control systems. This document announces a public hearing being conducted in connection with this proceeding.

DATES: A public hearing will be held on August 13, 2009, from 9 a.m. to 6 p.m. at the location listed below to provide interested parties the opportunity to comment on the proposals contained in the NPRM.

ADDRESSES: (1) Public Hearing. A public hearing to provide interested parties the opportunity to comment on the proposals contained in the NPRM will be held at the Washington Plaza Hotel, 10 Thomas Circle, NW., Washington, DC 20005.

(2) Docket Clerk. Written notification of a party's intent to provide oral testimony at the public hearing should identify the docket number and should be submitted to the FRA Docket Clerk, Office of Chief Counsel, Federal Railroad Administration, 1200 New Jersey Ave., SE., RCC-10, Stop 10, Washington, DC 20590 or fax to (202) 493-6068.

FOR FURTHER INFORMATION CONTACT: Thomas McFarlin, Office of Safety Assurance and Compliance, Staff Director, Signal & Train Control Division, Federal Railroad Administration, Mail Stop 25, West Building 3rd Floor West, Room W35-332, 1200 New Jersey Avenue, SE., Washington, DC 20590 (telephone: 202-493-6203); or Jason Schlosberg, Trial Attorney, Office of Chief Counsel, RCC-10, Mail Stop 10, West Building 3rd Floor, Room W31-217, 1200 New Jersey Avenue, SE., Washington, DC 20590 (telephone: 202-493-6032).

SUPPLEMENTARY INFORMATION: Interested parties are invited to present oral statements and proffer information and views at the hearing. The hearing will be informal and will be conducted by a representative designated by FRA in accordance with FRA's Rules of Practice (49 CFR 211.25). The hearing will be non-adversarial proceedings; therefore, there will be no cross examination of persons presenting statements or proffering evidence. An FRA representative will make an opening statement outlining the scope of the hearing. After all initial statements have been completed, those persons wishing to make a brief rebuttal will be given the opportunity to do so in the same order in which the initial statements were made. Additional procedures, as necessary for the conduct of the hearing, will be announced at the hearing. The purpose of the hearing is to receive oral comments regarding the specific provisions contained in the proposed rule. A transcript of the discussions will be made part of the public docket in this proceeding.

Public Participation Procedures. Any person wishing to participate in the public hearing should notify the Docket Clerk by mail or at the address or fax number provided in the ADDRESSES section at least five working days prior to the date of the hearing and submit three copies of the oral statement that he or she intends to make at the proceeding. The notification should identify the party the person represents, the particular subject(s) the person plans to address, and the time requested. The notification should also provide the Docket Clerk with the participant's mailing address and other contact information. FRA reserves the right to limit participation in the hearings of persons who fail to provide such notification. FRA reserves the right to limit the duration of presentations if necessary to afford all persons with the opportunity to speak.

Issued in Washington, DC, on July 17, 2009.
Jo Strang,
Associate Administrator for Railroad Safety/Chief Safety Officer.

[FR Doc. E9-17391 Filed 7-21-09; 8:45 am]

BILLING CODE 4910-06-P